DEPARTMENT OF ENERGY

Federal Energy Regulatory Commission

Notice of Application Tendered for Filing with the Commission, Soliciting Additional Study Requests, and Establishing Procedural Schedule for Relicensing and a Deadline for Submission of Final Amendments

February 13, 2003.

Take notice that the following hydroelectric subsequent license application has been filed with the Commission and is available for public inspection.

a. Type of Application: New License for a Major Water Power Project.

b. Project No.: P-2697-014.

c. Date filed: February 10, 2003.

d. Applicant: Northern States Power Company (d/b/a Xcel Energy).

e. Name of Project: Cedar Falls Hydroelectric Project.

f. Location: On the Red Cedar River, Dunn County, Wisconsin. This project would not use federal lands; however, a 2.4 acre island owned by the Bureau of Land Management located at the confluence of Red Cedar River and Tainter Lake is within the project's boundary.

g. Filed Pursuant to: Federal Power Act 16 U.S.C. 791 (a)-825(r).

h. Applicant Contact: Mr. William Zawacki, Director, Hydro Plants, or Ms. Kristina Bourget, Esq., Northern States Power Company (d/b/a Xcel Energy), 1414 West Hamilton Avenue, PO Box 8, Eau Claire, Wisconsin 54702-0008, 715-836-1136 or 715-839-1305, respectively, or Mr. William J. Madden, Jr., Esq., Winston and Strawn, 1400 L Street, NW., Washington, DC 20005-3502, 202-371-5715.

i. FERC Contact: John Ramer, john.ramer@ferc.gov (202) 502-8969.

j. Cooperating Agencies: We are asking Federal, state, and local agencies and Indian tribes with jurisdiction and/or special expertise with respect to environmental issues to cooperate with us in the preparation of the environmental document. Agencies who would like to request cooperating status should follow the instructions for filing comments described in item k below.

k. Pursuant to Section 4.32(b)(7) of 18 CFR of the Commission's regulations, if any resource agency, Indian tribe, or person believes that an additional scientific study should be conducted in order to form an factual basis for complete analysis of the application on its merit, the resource agency, Indian tribe, or person must file a request for a study with the Commission not later than 60 days after the application filing(i.e., by April 10, 2003.) and serve a copy of the request on the applicant.

l. Deadline for filing additional study requests and requests for cooperating agency status: April 10, 2003.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. The Commission strongly encourages electronic filing.See 18 CFR 385.2001(a)(1)(iii) and the instructions on the Commission's Web site (http://www.ferc.gov) under the “e-Filing” link. After logging into the e-Filing system, select “Comment on Filing” from the Filing Type Selection screen and continue with the filing process.”

m. The application is not ready for environmental analysis at this time.

n. Project Description: The Cedar Falls Hydroelectric Project consists of the following existing facilities: (1) A 510-foot-long by about 50-foot-high dam, topped with two, 23-foot-wide by 5-foot-high, steel Tainter gates and with a total dam discharge capacity of 57,000 cubic feet per second(cfs); (2) a 1,752-acre reservoir (Tainter Lake) with a gross storage capacity of about 23,000-acre feet; (3) a 140-foot-long by 150-foot-wide by 42-foot-high powerhouse containing three 2,000 kilowatt (kW) horizontal generators with Francis turbines with a total maximum hydraulic capacity of 2,500 cfs and with a total installed generating capacity of 7.1megawatts (MW) and producing a total of 33,678,351 kilowatt-hours (kWh) annually; (4) a substation containing a 69 kilovolt (kV) bus from which power flows to four 69 kV transmission lines which serve the applicant's interconnected electrical system or to a 10,500 kva transformer that serves a local distribution load; along with (5) appurtenant facilities, such as, govenors and electric switchgear. The dam and existing project facilities are owned by Northern States Power Company (d/b/a Xcel Energy).

o. A copy of the application is on file with the Commission and is available for public inspection. This filing may also be viewed on the web at http://www.ferc.gov using the “FERRIS” link—select “Docket #” and follow the instructions. For assistance, please contact FERC Online Support at FERCOnlineSupport@ferc.gov or toll free at (866) 208-3676 or for TYY, contact (202) 502-8659. A copy is also available for inspection and reproduction at the address in item h above.

p. With this notice, we are initiating consultation with the Wisconsin State Historic Preservation Officer (SHPO), as required by § 106, National Historic Preservation Act, and the regulations of the Advisory Council on Historic Preservation, 36 CFR 800.4.

q. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA issued in the spring of 2004.

Issue Acceptance or Deficiency Letter, June 2003.

Issue Scoping Document, July 2003.

Notice that application is ready for environmental analysis, October 2003.

Notice of the availability of the EA, March 2004.

Ready for Commission decision on the application, May 2004.

Final amendments to the application must be filed with the Commission no later than 30 days from the issuance date of the notice of ready for environmental analysis.

Magalie R. Salas,
Secretary.

[FR Doc. 03-4121 Filed 2-19-03; 8:45 am]

BILLING CODE 6717-01-P